DEPARTMENT OF THE INTERIOR

Fish and Wildlife Service

Proposed Low-Effect Habitat Conservation Plan for Southern California Edison Etiwanda-Miraloma Transmission Line Reconductor Project, Riverside and San Bernardino Counties, CA

AGENCY: Fish and Wildlife Service, Interior.

ACTION: Notice of availability; receipt of application.

SUMMARY: Southern California Edison (applicant) has applied to the U.S. Fish and Wildlife Service (Service) for a 5-year incidental take permit for two species pursuant to section 10(a)(1)(B) of the Endangered Species Act of 1973, as amended (Act). The application addresses the potential for “take” of the Delhi Sands flower-loving fly (Rhaphiomidas terminatus abdominalis), listed as endangered under the Act. It also addresses impacts to the burrowing owl (Athene cunicularia hypugea), a California State designated Species of Special Concern. Impacts to both species would occur from proposed upgrading of the existing Etiwanda-Miraloma Transmission Line in Riverside and San Bernardino counties, California. A conservation program to mitigate for the project activities would be implemented by the applicant as described in the proposed Southern California Edison (SCE) Low-Effect Habitat Conservation Plan (proposed plan), which is available for public review.

We are requesting comments on the proposed Plan and on the preliminary determination that the proposed Plan qualifies as a “Low-effect” Habitat Conservation Plan, eligible for a categorical exclusion under the National Environmental Policy Act (NEPA) of 1969, as amended. The basis for this determination is discussed in an Environmental Action Statement and the associated Low-Effect Screening Form (EAS/screening form), which are also available for public review.

DATES: Written comments should be received on or before April 14, 2005.

ADDRESSES: Comments should be addressed to Jim Bartel, Field Supervisor, Fish and Wildlife Service, Carlsbad Fish and Wildlife Office, 6010 Hidden Valley Road, Carlsbad, California 92008. Written comments may be sent by facsimile to (760) 918-0638.

FOR FURTHER INFORMATION CONTACT: Ms. Karen Goebel, Assistant Field Supervisor, Carlsbad Fish and Wildlife Office (see ADDRESSES); telephone: (760) 431-9440.

Availability of Documents

Individuals wishing copies of the application, proposed plan, and EAS/screening form should immediately contact the Service by telephone (see FOR FURTHER INFORMATION CONTACT) or by letter to the Carlsbad Fish and Wildlife Office (see ADDRESSES). Copies of the proposed plan and EAS/screening form also are available for public inspection during regular business hours at the Carlsbad Fish and Wildlife Office (see ADDRESSES).

Background

Section 9 of the Act and its implementing Federal regulations prohibit the take of animal species listed as endangered or threatened. The definition of take under the Act is to harass, harm, pursue, hunt, shoot, wound, kill, trap, capture or collect listed animal species, or to attempt to engage in such conduct (16 U.S.C. 1538). However, under section 10(a) of the Act, the Service may issue permits to authorize incidental take of listed animal species. “Incidental take” is defined by the Act as take that is incidental to, and not the purpose of, carrying out an otherwise lawful activity. Regulations governing incidental take permits for threatened and endangered species, respectively, are found at 50 CFR 17.22 and 50 CFR 17.32.

The applicant is seeking a permit for take of the endangered Delhi Sands flower-loving fly (DSF), and for the burrowing owl should it become listed as threatened or endangered under the Act during the life of the proposed 5-year permit. DSF were observed on the proposed project site. No critical habitat for any listed species occurs on the project site. The project site does not contain any threatened or endangered species or habitat.

The proposed transmission line upgrade project would involve the one-time removal of existing transmission lines, replacing these lines with new, higher capacity lines, and replacing existing ground wire with fiber line. A structural modification of the existing support system (i.e., the replacement of seven existing towers with taller towers) would be necessary to maintain adequate ground clearance.

Project implementation may result in take of the DSF. Although the project area covers 126 acres, total construction impacts that would result in habitat disturbance for the DSF and burrowing owl are limited to 4.17 acres. Within these 4.17 acres, a total of 0.88 acres of temporary and/or permanent disturbance of habitat for the DSF would occur.

The Applicant proposes to minimize and mitigate the effects to the DSF associated with the covered activities by fully implementing the Plan. The purpose of the proposed Plan's conservation program is to avoid and minimize impacts to the DSF during project construction and to mitigate unavoidable impacts from temporary habitat disturbance and permanent habitat loss. Unavoidable effects to the DSF would be mitigated either through the restoration of 1.25 acres of DSF habitat within Applicant-owned property or by the purchase of one acre of high-quality DSF habitat at the Colton Dunes Mitigation Bank, operated by the Vulcan Materials Company, in Colton, California.

Project implementation also may result in adverse effects to the burrowing owl. The Applicant proposes to minimize and mitigate the effects to the burrowing owl associated with covered activities by fully implementing the Plan. Unavoidable effects to the burrowing owl would be mitigated by relocating any nesting owls within the construction area in accordance with the guidelines and measures outlined in the proposed Plan. No critical habitat has been proposed or designated for the burrowing owl.

The Proposed Action consists of the issuance of an incidental take permit and implementation of the proposed Plan, which includes measures to minimize and mitigate impacts of the project on the DSF and burrowing owl. Alternatives to the taking of the DSF and burrowing owl are considered in the proposed Plan. Under the No Action Alternative, no permit would be issued, and no construction would occur. Under the Reduced Project Alternative, incidental take of DSF and burrowing owl would be authorized, but the applicant would reduce the area of impact. Under the “Participate in Regional Planning” Alternative, the Applicant could eventually receive incidental take authorization but the proposed project would be delayed until completion of a regional habitat conservation plan in San Bernardino County.

The Service has made a preliminary determination that approval of the proposed Plan qualifies for categorical exclusion under NEPA, as provided by the Department of the Interior Manual (516 DM 2, Appendix 1 and 516 DM 6, Appendix 1) and as a “low-effect” plan as defined by the Habitat Conservation Planning Handbook (November 1996). Determination of Low-effect Habitat Conservation Plans is based on the following three criteria: (1) Implementation of the proposed Plan would result in minor or negligible effects on federally listed, proposed, and candidate species and their habitats; (2) implementation of the proposed Plan would result in minor or negligible effects on other environmental values or resources; and (3) impacts of the proposed Plan, considered together with the impacts of other past, present and reasonably foreseeable similarly situated projects, would not result, over time, in cumulative effects to environmental values or resources that would be considered significant.

Based upon this preliminary determination, we do not intend to prepare further NEPA documentation. We will consider public comments in making the final determination on whether to prepare such additional documentation.

This notice is provided pursuant to section 10(c) of the Act. We will evaluate the permit application, the proposed Plan, and comments submitted thereon to determine whether the application meets the requirements of section 10(a) of the Act. If the requirements are met, we will issue a permit to the Applicant for the incidental take of the DSF, and the burrowing owl should it be listed during the permit term. The permit would be contingent upon implementation of the Applicant's proposed Plan in Riverside and San Bernardino counties, California.

Dated: March 9, 2005.
Tom McCabe,
Acting Deputy Manager, California/Nevada Operations Office, Sacramento, California.

[FR Doc. 05-5017 Filed 3-14-05; 8:45 am]

BILLING CODE 4310-55-P